DEPARTMENT OF THE INTERIOR

Bureau of Land Management

[A2407-014-004-065516; #O2509-014-004-125222]

Notice of Realty Action: Noncompetitive (Direct) Sale of Public Land in Moffat County, CO

AGENCY: Bureau of Land Management, Interior.

ACTION: Notice of realty action.

SUMMARY: The Bureau of Land Management (BLM) is proposing a non-competitive (direct) sale of 2.13 acres of public land in the Little Snake Field Office to Moffat County. The sale would resolve an inadvertent unauthorized use of public land. The sale would be subject to the applicable provisions of the Federal Land Policy and Management Act of 1976 (FLPMA), as amended, and the BLM land sale regulations. The surface estate would be sold for no less than the appraised fair market value of $17,000.00.

DATES: Interested parties must submit written comments no later than March 2, 2026.

ADDRESSES: Mail written comments to Robert Swithers, District Manager, Northwest District Office, 455 Emerson Street, Craig, CO 81625, or submit them online via the BLM National NEPA Register at https://eplanning.blm.gov/eplanning-ui/project/2038945/510.

FOR FURTHER INFORMATION CONTACT: Kymm Hampton at the above address, or by telephone at 970-826-5089, or by email at kgresset@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The Browns Park School is in far northwestern Colorado, closer to the Utah and Wyoming borders than to any major Colorado city. For many years, the Browns Park School property was assumed to be owned by Moffat County. It was discovered in 1994 that the buildings were inadvertently placed on Federal public land in the 1940s and Moffat County only holds ownership over the buildings and associated improvements. After many years of negotiation, the BLM proposes to offer the land for direct sale to resolve the issue.

The following described public land in Moffat County has been examined and found suitable for sale under the authority of sections 203 and 209 of FLPMA, as amended.

Sixth Principal Meridian, Colorado

T. 9 N., R. 102 W.,

Sec. 2, lot 36;

Sec. 3, lot 24.

The area described contains 2.13 acres, according to the official plat of survey of the said land, on file with the BLM.

The above-described land was segregated on September 14, 2020, from all forms of appropriation under the public land laws, including the mining laws, except for the sale provision of the FLPMA (85 FR 56627). Upon publication of this notice and until completion of the sale, the BLM will not accept land use applications affecting the identified public land except applications for the amendment of previously filed right-of-way applications or existing authorizations to increase the term of the grants in accordance with 43 CFR 2807.15. Pursuant to 43 CFR 2711.1-2, the land will not be sold until after March 16, 2026.

The proposed sale is in conformance with the BLM Little Snake Resource Management Plan, approved in October 2011, as addressed on page RMP-52 under Management Actions: Allowable Uses and Actions. The mineral potential is unknown and the mineral estate would not be conveyed, in accordance with section 209 of FLPMA. A parcel-specific environmental assessment (EA), document number DOI-BLM-CO-N010-2025-0032-EA, was prepared in connection with this realty action and may be viewed at https://eplanning.blm.gov/eplanning-ui/project/2038945/510. Existing historical structures make the subject parcel difficult for the BLM to manage. Under the FLPMA section 203, disposal of the subject parcel is allowable because existing characteristics are difficult and uneconomic to manage and disposal of the tract will serve important public objectives, including but not limited to, expansion of communities and economic development.

In accordance with 43 CFR 2710.0-6 and 43 CFR 2711.3-3(a), direct sales (without competition) may be utilized, when in the opinion of the authorized officer, a competitive sale is not appropriate and the public interest would best be served by a direct sale, including a tract identified for transfer to State or local government or nonprofit organization; or a need to resolve inadvertent unauthorized use or occupancy of the lands. In this case, a direct sale is appropriate because the subject parcel contains inadvertent unauthorized location of historical structures significant to the history of public schools in Moffat County. The county intends to use the property for public education and to enhance tourism in the area.

The BLM considered the minimal acreage to create a manageable boundary to include land needed to protect existing improvements and to resolve the inadvertent unauthorized use. The BLM may serve the public's interest through resolution and receiving fair market value for the subject parcel.

The conveyance document, if issued, would include the following terms, covenants, conditions, and reservations:

1. A mineral reservation to the United States for all minerals;

2. A reservation to the United States for ditches and canals constructed by authority of the United States under the Act of August 30, 1890 (43 U.S.C. 945);

3. A reservation for water power rights subject to the conditions and limitations of section 24 of the Federal Power Act of June 10, 1920, as amended (16 U.S.C. 818), and subject to the stipulation that, if and when, the lands are required in whole or in part, for power development purposes, any structures or improvements placed thereon which shall be found to obstruct or interfere with such development shall, without expense to the United States, its permittees or licensees, be removed or relocated insofar as is necessary to eliminate interference with power development;

4. Valid existing rights issued prior to conveyance;

5. An appropriate indemnification clause protecting the United States from claims arising out of the purchaser's use, occupancy, or operations on the conveyed land; and

6. Additional terms and conditions that the authorized officer deems appropriate.

The EA, appraisal, maps, and environmental site assessment are available for review at the location listed in the ADDRESSES section earlier. Interested parties may submit, in writing, any comments concerning the sale, including notifications of any encumbrances or other claims relating to the parcel (see ADDRESSES).

The BLM Colorado State Director will review adverse comments regarding the parcel and may sustain, vacate, or modify this realty action, in whole or in part. In the absence of timely objections, this realty action will become the final determination of the Department of the Interior.

In addition to this notice of realty action, a sale notice will be published once a week for 3 consecutive weeks in the Craig Daily Press. Only written comments submitted by mail or online via the BLM National NEPA Register will be considered as properly filed (see ADDRESSES). Electronic mail, facsimile, or verbal comments will not be considered.

Before including your address, phone number, email address, or other personally identifiable information in your comments, please note that the BLM may make your entire comment—including your personally identifiable information—publicly available at any time. While you can ask us in your comment to withhold your personally identifiable information from public review, we cannot guarantee that we will be able to do so.

(Authority: 43 CFR 2711)

Douglas J. Vilsack,
BLM Colorado State Director.

[FR Doc. 2026-00509 Filed 1-13-26; 8:45 am]

BILLING CODE 4331-16-P